DEPARTMENT OF ENERGY

Federal Energy Regulatory Commission

Combined Notice of Filings

Take notice that the Commission has received the following Natural Gas Pipeline Rate and Refund Report filings:

Filings Instituting Proceedings

Docket Numbers: PR15-15-000.

Applicants: NorthWestern Corporation.

Description: Tariff filing per 284.123(b)(1)/.: Revised Rate Schedules for Transportation and Storage Service—Tax Tracker to be effective 1/1/2015; TOFC: 980.

Filed Date: 1/27/15.

Accession Number: 20150127-5090.

Comments Due: 5 p.m. ET 2/17/15.

284.123(g) Protests Due:

Docket Numbers: CP15-76-000.

Applicants: National Fuel Gas Supply Corporation.

Description: Abbreviated Application of National Fuel Gas Supply Corporation for an Order Approving the Abandonment of Rate Schedule X-10.

Filed Date: 1/27/15.

Accession Number: 20150127-5322.

Comments Due: 5 p.m. ET 2/17/15.

Docket Numbers: RP15-382-000.

Applicants: Ruby Pipeline, L.L.C.

Description: § 4(d) rate filing per 154.204: Xpress to DART Implementation Filing to be effective 3/1/2015.

Filed Date: 1/29/15.

Accession Number: 20150129-5001.

Comments Due: 5 p.m. ET 2/10/15.

Docket Numbers: RP15-384-000.

Applicants: Southern LNG Company, L.L.C.

Description: § 4(d) rate filing per 154.204: Dredging Surcharge Cost Adjustment—2015 to be effective 3/1/2015.

Filed Date: 1/29/15.

Accession Number: 20150129-5039.

Comments Due: 5 p.m. ET 2/10/15.

Docket Numbers: RP15-385-000.

Applicants: Transcontinental Gas Pipe Line Company.

Description: § 4(d) rate filing per 154.204: Negotiated Rates—Cherokee AGL—Replacement Shippers—Feb 2015 to be effective 2/1/2015.

Filed Date: 1/29/15.

Accession Number: 20150129-5040.

Comments Due: 5 p.m. ET 2/10/15.

Docket Numbers: RP15-386-000.

Applicants: Iroquois Gas Transmission System, L.P.

Description: § 4(d) rate filing per 154.204: 01/29/15 Negotiated Rates—Mercuria Energy Gas Trading LLC (HUB)-7540-89 to be effective 1/28/2015.

Filed Date: 1/29/15.

Accession Number: 20150129-5051.

Comments Due: 5 p.m. ET 2/10/15.

Docket Numbers: RP15-387-000.

Applicants: Enable Mississippi River Transmission, L.

Description: § 4(d) rate filing per 154.204: 2014 Housekeeping Filing to be effective 3/1/2015.

Filed Date: 1/29/15.

Accession Number: 20150129-5100.

Comments Due: 5 p.m. ET 2/10/15.

Docket Numbers: RP15-388-000.

Applicants: Southeast Supply Header, LLC.

Description: § 4(d) rate filing per 154.204: SESH Jan2015 Cleanup Filing to be effective 3/1/2015.

Filed Date: 1/29/15.

Accession Number: 20150129-5105.

Comments Due: 5 p.m. ET 2/10/15.

Docket Numbers: RP15-389-000.

Applicants: Northern Natural Gas Company.

Description: § 4(d) rate filing per 154.403: 20150202 Annual PRA Fuel Rates to be effective 4/1/2015.

Filed Date: 1/29/15.

Accession Number: 20150129-5109.

Comments Due: 5 p.m. ET 2/10/15.

Docket Numbers: RP15-390-000.

Applicants: Dauphin Island Gathering Partners.

Description: § 4(d) rate filing per 154.204: Negotiated Rate Filing 1-29-2015 to be effective 3/1/2015.

Filed Date: 1/29/15.

Accession Number: 20150129-5111.

Comments Due: 5 p.m. ET 2/10/15.

Docket Numbers: RP15-391-000.

Applicants: Southeast Supply Header, LLC.

Description: § 4(d) rate filing per 154.204: SESH Contracting Processes to be effective 3/15/2015.

Filed Date: 1/29/15.

Accession Number: 20150129-5112.

Comments Due: 5 p.m. ET 2/10/15.

Docket Numbers: RP15-392-000.

Applicants: Leaf River Energy Center LLC.

Description: § 4(d) rate filing per 154.204: Tariff Filing to Modify Storage Ratchets and Add Low Pressure Tenders Option to be effective 2/28/2015.

Filed Date: 1/29/15.

Accession Number: 20150129-5191.

Comments Due: 5 p.m. ET 2/10/15.

Docket Numbers: RP15-393-000.

Applicants: Colorado Interstate Gas Company, L.L.C.

Description: § 4(d) rate filing per 154.204: Xpress to DART Implementation Filing to be effective 3/1/2015.

Filed Date: 1/29/15.

Accession Number: 20150129-5224.

Comments Due: 5 p.m. ET 2/10/15.

Docket Numbers: RP15-394-000.

Applicants: Ruby Pipeline, L.L.C.

Description: § 4(d) rate filing per 154.204: Park and Loan Rate Update to be effective 3/1/2015.

Filed Date: 1/29/15.

Accession Number: 20150129-5225.

Comments Due: 5 p.m. ET 2/10/15.

Docket Numbers: RP15-395-000.

Applicants: El Paso Natural Gas Company, L.L.C.

Description: § 4(d) rate filing per 154.601: Non-Conforming Agreements Filing (Lordsburg & EMW) to be effective 3/1/2015.

Filed Date: 1/29/15.

Accession Number: 20150129-5227.

Comments Due: 5 p.m. ET 2/10/15.

Docket Numbers: RP15-396-000.

Applicants: Young Gas Storage Company, Ltd.

Description: § 4(d) rate filing per 154.204: Xpress to Dart Implementation to be effective 3/1/2015.

Filed Date: 1/29/15.

Accession Number: 20150129-5233.

Comments Due: 5 p.m. ET 2/10/15.

Docket Numbers: RP15-397-000.

Applicants: Wyoming Interstate Company, L.L.C.

Description: § 4(d) rate filing per 154.403(d)(2): FL&U to be effective March 1, 2015 to be effective 3/1/2015.

Filed Date: 1/29/15.

Accession Number: 20150129-5241.

Comments Due: 5 p.m. ET 2/10/15.

Docket Numbers: RP15-398-000.

Applicants: Wyoming Interstate Company, L.L.C.

Description: § 4(d) rate filing per 154.204: Xpress to Dart Implementation Filing to be effective 3/1/2015.

Filed Date: 1/29/15.

Accession Number: 20150129-5259.

Comments Due: 5 p.m. ET 2/10/15.

Docket Numbers: RP15-399-000.

Applicants: Alliance Pipeline L.P.

Description: § 4(d) rate filing per 154.204: February 1-10 2015 Auction to be effective 2/1/2015.

Filed Date: 1/29/15.

Accession Number: 20150129-5260.

Comments Due: 5 p.m. ET 2/10/15.

Docket Numbers: RP15-400-000.

Applicants: Enable Gas Transmission, LLC.

Description: § 4(d) rate filing per 154.204: Negotiated Rate Filing—February 1, 2015—CEM 6966 and SND 0414 to be effective 2/1/2015.

Filed Date: 1/29/15.

Accession Number: 20150129-5264.

Comments Due: 5 p.m. ET 2/10/15.

Docket Numbers: RP15-401-000.

Applicants: Sabine Pipe Line LLC.

Description: § 4(d) rate filing per 154.204: Sabine Contact Updates to be effective 3/1/2015.

Filed Date: 1/29/15.

Accession Number: 20150129-5273.

Comments Due: 5 p.m. ET 2/10/15.

Docket Numbers: RP15-402-000.

Applicants: Chandeleur Pipe Line, LLC.

Description: § 4(d) rate filing per 154.204: Chandeleur Contact Updates to be effective 3/1/2015.

Filed Date: 1/29/15.

Accession Number: 20150129-5281.

Comments Due: 5 p.m. ET 2/10/15.

Docket Numbers: RP15-403-000.

Applicants: Transcontinental Gas Pipe Line Company.

Description: § 4(d) rate filing per 154.204: Leidy Southeast Initial Rate Filing to be effective 3/1/2015.

Filed Date: 1/29/15.

Accession Number: 20150129-5285.

Comments Due: 5 p.m. ET 2/10/15.

Docket Numbers: RP15-404-000.

Applicants: Big Sandy Pipeline, LLC.

Description: Compliance filing per 154.203: Big Sandy Fuel Filing effective 3-1-2015.

Filed Date: 1/30/15.

Accession Number: 20150130-5000.

Comments Due: 5 p.m. ET 2/11/15.

Docket Numbers: RP15-405-000.

Applicants: Big Sandy Pipeline, LLC.

Description: Semi-Annual Transportation Retainage Factor Filing of Big Sandy Pipeline, LLC.

Filed Date: 1/29/15.

Accession Number: 20150129-5325.

Comments Due: 5 p.m. ET 2/10/15.

Docket Numbers: RP15-406-000.

Applicants: Gulf South Pipeline Company, LP.

Description: § 4(d) rate filing per 154.204: Cap Rel Neg Rate Agmts (QEP 37657, 36601 to BP 43836, 43837) to be effective 2/1/2015.

Filed Date: 1/30/15.

Accession Number: 20150130-5020.

Comments Due: 5 p.m. ET 2/11/15.

Docket Numbers: RP15-407-000.

Applicants: Gulf South Pipeline Company, LP.

Description: § 4(d) rate filing per 154.204: Cap Rel Neg Rate Agmt (Encana 37663 to BP 43835) to be effective 2/1/2015.

Filed Date: 1/30/15.

Accession Number: 20150130-5021.

Comments Due: 5 p.m. ET 2/11/15.

Docket Numbers: RP15-408-000.

Applicants: Great Lakes Gas Transmission Limited Par.

Description: Great Lakes Gas Transmission Semi-Annual Transporter's Use Report.

Filed Date: 1/30/15.

Accession Number: 20150130-5025.

Comments Due: 5 p.m. ET 2/11/15.

Docket Numbers: RP15-409-000.

Applicants: Iroquois Gas Transmission System, L.P.

Description: § 4(d) rate filing per 154.204: 01/30/15 Negotiated Rates—Mercuria Energy Gas Trading (RTS)—7540-02 to be effective 2/1/2015.

Filed Date: 1/30/15.

Accession Number: 20150130-5027.

Comments Due: 5 p.m. ET 2/11/15.

Docket Numbers: RP15-410-000.

Applicants: Columbia Gulf Transmission, LLC.

Description: § 4(d) rate filing per 154.204: Section 4 Revisions—Availability of Capacity for Firm Services to be effective 3/1/2015.

Filed Date: 1/30/15.

Accession Number: 20150130-5035.

Comments Due: 5 p.m. ET 2/11/15.

Docket Numbers: RP15-411-000.

Applicants: Crossroads Pipeline Company.

Description: § 4(d) rate filing per 154.204: Section 4 Revisions—Availability of Capacity for Firm Services to be effective 3/1/2015.

Filed Date: 1/30/15.

Accession Number: 20150130-5046.

Comments Due: 5 p.m. ET 2/11/15.

Docket Numbers: RP15-412-000.

Applicants: Algonquin Gas Transmission, LLC.

Description: § 4(d) rate filing per 154.204: BBPC 02012015 Releases to be effective 2/1/2015.

Filed Date: 1/30/15.

Accession Number: 20150130-5048.

Comments Due: 5 p.m. ET 2/11/15.

Docket Numbers: RP15-413-000.

Applicants: Cimarron River Pipeline, LLC.

Description: § 4(d) rate filing per 154.403(d)(2): Fuel Tracker 2015—Summer Season Rates to be effective 4/1/2015.

Filed Date: 1/30/15.

Accession Number: 20150130-5054.

Comments Due: 5 p.m. ET 2/11/15.

Docket Numbers: RP15-414-000.

Applicants: Algonquin Gas Transmission, LLC.

Description: § 4(d) rate filing per 154.204: Feb2015 KeySpan Release to be effective 2/1/2015.

Filed Date: 1/30/15.

Accession Number: 20150130-5080.

Comments Due: 5 p.m. ET 2/11/15.

Docket Numbers: RP15-415-000.

Applicants: Algonquin Gas Transmission, LLC.

Description: § 4(d) rate filing per 154.204: Feb2015 BUG Release to be effective 2/1/2015

Filed Date: 1/30/15.

Accession Number: 20150130-5084.

Comments Due: 5 p.m. ET 2/11/15.

Docket Numbers: RP15-416-000.

Applicants: Millennium Pipeline Company, LLC.

Description: § 4(d) rate filing per 154.601: Negotiated Rate Service Agmt—Cabot & SW to be effective 2/1/2015.

Filed Date: 1/30/15.

Accession Number: 20150130-5150.

Comments Due: 5 p.m. ET 2/11/15.

Docket Numbers: RP15-417-000.

Applicants: Dominion Transmission, Inc.

Description: § 4(d) rate filing per 154.204: DTI—January 30, 2015 Negotiated Rate Agreement to be effective 2/1/2015.

Filed Date: 1/30/15.

Accession Number: 20150130-5221.

Comments Due: 5 p.m. ET 2/11/15.

Docket Numbers: RP15-418-000.

Applicants: Rockies Express Pipeline LLC.

Description: § 4(d) rate filing per 154.204: Neg Rate 2015-01-30 Encana to be effective 2/1/2015.

Filed Date: 1/30/15.

Accession Number: 20150130-5299.

Comments Due: 5 p.m. ET 2/11/15.

Docket Numbers: RP15-419-000.

Applicants: Northern Natural Gas Company.

Description: § 4(d) rate filing per 154.204: 20150130 Negotiated Rate to be effective 2/1/2015.

Filed Date: 1/30/15.

Accession Number: 20150130-5306.

Comments Due: 5 p.m. ET 2/11/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP15-130-001.

Applicants: Tennessee Gas Pipeline Company, L.L.C.

Description: Compliance filing per 154.203: LMS-MA and LMS-PA Cash Out Indices to be effective 2/1/2015.

Filed Date: 1/30/15.

Accession Number: 20150130-5269.

Comments Due: 5 p.m. ET 2/11/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2015.
Nathaniel J. Davis, Sr.,
Deputy Secretary.

[FR Doc. 2015-02636 Filed 2-9-15; 8:45 am]

BILLING CODE 6717-01-P